DEPARTMENT OF TRANSPORTATION

Federal Aviation Administration

Notice of Intent To Rule on Application 02-05-C-00-BGM To Impose/Use the Revenue from a Passenger Facility Charge (PFC) at Binghamton Regional Airport, Binghamton, New York

AGENCY: Federal Aviation Administration (FAA), DOT.

ACTION: Notice of intent to rule on application.

SUMMARY: The FAA proposes to rule and invites public comment on the application to impose/use the revenue from a PFC at Binghamton Regional Airport under the provisions of the Aviation Safety and Capacity Expansion Act of 1990 (Title IX of the Omnibus Budget Reconciliation Act of 1990) (Public Law 101-508) and part 158 of the Federal Aviation Regulations (14 CFR part 158).

DATES: Comments must be received on or before January 4, 2002.

ADDRESSES: Comments on this application may be mailed or delivered in triplicate to the FAA at the following address: Federal Aviation Administration, New York Airports District Office, 600 Old Country Road, Suite 446, Garden City, New York 11530.

In addition, one copy of any comments submitted to the FAA must be mailed or delivered to Mr. Carl R. Beardsley, Jr., Deputy Commissioner of Aviation of the Broome County Department of Aviation at the following address: Broome County Department of Aviation, 2534 Airport Road, Box 16, Johnson City, NY 13790.

Air carriers and foreign air carriers may submit copies of written comments previously provided to the Broome County Department of Aviation under section 158.23 of part 158.

FOR FURTHER INFORMATION CONTACT: Philip Brito, Manager, New York Airports District Office, 600 Old Country Road, Suite 446, Garden City, New York 11530, Telephone: (516) 227-3800. The application may be reviewed in person at the same location.

SUPPLEMENTARY INFORMATION: The FAA proposes to rule and invites public comment on the application to impose/use the revenue from a PFC at Binghamton Regional Airport under the provisions of the Aviation Safety and Capacity Expansion Act of 1990 (Title IX of the Omnibus Budget Reconciliation Act of 1990) (Public Law 101-508) and part 158 of the Federal Aviation Regulations (14 CFR part 158).

On October 31, 2001, the FAA determined that the application to impose/use the revenue from a PFC submitted by the Broome County Department of Aviation was substantially complete within the requirements of section 158.25 of part 158. The FAA will approve or disapprove the application, in whole or in part, no later than February 19, 2001.

The following is a brief overview of the application.

PFC Application No.: 02-05-C-00-BGM.

Level of the proposed PFC: $3.00.

Proposed charge effective date: February 1, 2002.

Proposed charge expiration date: July 31, 2006.

Total estimated PFC revenue: $1,445,438.

Brief description of proposed project(s):

Impose Only:

—Airport Service Road Improvements—Phase I

—ARFF Facility Refurbishment

—Passenger Boarding Bridge Purchase

—Runway 16-34 Refurbishment Design/Construction

Impose and Use:

—Snow Removal Equipment Purchase

—Fire Rescue Equipment

—Runway 16-34 RSA EMAS Design/Construction

—Airport Master Plan Update

Use:

—Maintenance Building Construction—Construction Phase

Class of classes of air carriers which the public agency has requested not be required to collect PFCs: Non-Scheduled/On Demand Operators filing FAA Form 1800-31.

Any person may inspect the application in person at the FAA office listed above under FOR FURTHER INFORMATION CONTACT and at the FAA regional airports office located at: Federal Aviation Administration, Eastern Region, Airports Division, AEA-610, 1 Aviation Plaza, Jamaica, New York 11434-4809.

In addition, any person may, upon request, inspect the FAA application, notice and other documents germane to the application in person at the Broome County Department of Aviation.

Issued in Garden City, New York on November 27, 2001.
Philip Brito,
Manager, New York Airports District Office, Eastern Region.

[FR Doc. 01-30176 Filed 12-4-01; 8:45 am]

BILLING CODE 4910-13-M